DEPARTMENT OF HEALTH AND HUMAN SERVICES

Health Resources and Services Administration

Agency Information Collection Activities: Proposed Collection: Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, email paperwork@hrsa.gov or call the HRSA Reports Clearance Office on (301) 443-1129.

The following request has been submitted to the Office of Management and Budget for review under the Paperwork Reduction Act of 1995:

Proposed Project: National Health Service Corps Site Survey (OMB No. 0915-0232)—[Revision]

The Health Resources and Services Administration (HRSA), Bureau of Clinician Recruitment and Service (BCRS) places National Health Service Corps (NHSC) health care professionals at sites that provide services to underserved and vulnerable populations. The NHSC Site Survey renames and revises the previously known NHSC Uniform Data System (UDS) Report. The survey is completed annually by sites that receive an NHSC provider and are not currently receiving HRSA grant support. The NHSC Site Survey provides information that is utilized for monitoring and evaluating program operations and effectiveness, in addition to accurately reporting the scope of activities.

The annual estimate of burden is as follows:

Instrument | Number of respondents | Responses per respondent | Total responses | Hours per response | Total burden hours
NHSC Site Survey | 1200 | 1 | 1200 | 27 | 32,400

Written comments and recommendations concerning the proposed information collection should be sent within 30 days of this notice to the desk officer for HRSA, either by email to OIRA_submission@omb.eop.gov or by fax to (202) 395-6974. Please direct all correspondence to the “attention of the desk officer for HRSA.”

Dated: November 22, 2011.
Reva Harris,
Acting Director, Division of Policy and Information Coordination.

[FR Doc. 2011-30628 Filed 11-28-11; 8:45 am]

BILLING CODE 4165-15-P